DEPARTMENT OF HEALTH AND HUMAN SERVICES

Food and Drug Administration

[Docket No. FDA-2011-N-0002]

Pregnancy and Prescription Medication Use Symposium

AGENCY: Food and Drug Administration, HHS.

ACTION: Notice of meeting.

The Food and Drug Administration (FDA) is announcing the following meeting: Pregnancy and Prescription Medication Use Symposium. The topic to be discussed is “Prescription Drug Use in Pregnancy.”

Date and Time: The meeting will be held on May 17, 2011, from 8 a.m. to 4:30 p.m.

Location: The meeting will be held at FDA White Oak Campus, 10903 New Hampshire Ave., Building 31 Conference Center, the Great Room (rm. 1503), Silver Spring, MD 20993-0002.

Contact: Monica Yu, Office of Women's Health (OWH), Food and Drug Administration, 10903 New Hampshire Ave., Bldg. 32, rm. 2313, 301-796-9449, e-mail: monica.yu@fda.hhs.gov.

Registration: There is no registration fee, but seating is limited to 100. Send registration information (including name, title, firm name, address, telephone number, and e-mail address), to the following registration link by May 10, 2011: http://www.accessdata.fda.gov/scripts/email/oc/pregnancysymposium.cfm.

If you need special accommodations due to a disability, please contact Monica Yu at least 7 days in advance.

Visitor parking: Please see http://www.fda.gov/AboutFDA/WorkingatFDA/BuildingsandFacilities/WhiteOakCampusInformation/ucm241740.htm.

SUPPLEMENTARY INFORMATION: Transcripts: There will not be any transcripts; however, the speakers' Power Point presentations will be posted on the FDA/OWH Web site after the meeting at: http://www.fda.gov/ForConsumers/byAudience/ForWomen/default.htm.

Dated: March 23, 2011.
David Dorsey,
Acting Deputy Commissioner for Policy, Planning and Budget.

[FR Doc. 2011-7215 Filed 3-25-11; 8:45 am]

BILLING CODE 4160-01-P